DEPARTMENT OF HEALTH AND HUMAN SERVICES

Health Resources and Services Administration

Agency Information Collection Activities: Submission to OMB for Review and Approval; Public Comment Request; HRSA Ryan White HIV/AIDS Program Part F Regional AIDS Education and Training Center Program Activities

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than January 8, 2025.

ADDRESSES: Written comments and recommendations for the proposed information collection should be sent within 30 days of publication of this notice to www.reginfo.gov/public/do/PRAMain. Find this particular information collection by selecting “Currently under Review—Open for Public Comments,” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: HRSA Ryan White HIV/AIDS Program Part F Regional AIDS Education and Training Center Program Activities, OMB No. 0906-xxxx—New.

Abstract: The Ryan White HIV/AIDS Program's (RWHAP) AIDS Education and Training Center (AETC) Program, authorized under title XXVI of the Public Health Service Act, supports a network of regional centers that conduct targeted, multi-disciplinary education and training programs for health care providers treating people with HIV. The RWHAP Regional AETC Program's purpose is to increase the number of health care providers who are effectively educated and equipped to counsel, diagnose, treat, and medically manage people with HIV. The RWHAP Regional AETC Program recipients are required to report data on the training activities and trainees to HRSA once a year. HRSA is requesting the approval of new AETC data collection forms to accurately capture data relating to Regional AETC activities, participants, and site information for both Practice Transformation (PT) and Interprofessional Education (IPE) sites as well as involvement in the HIV care and treatment workforce (1-year post-participation), knowledge gained through participating in an activity, and satisfaction with the activity. The RWHAP Regional AETC Program recipients will gather data on the training activities they conduct using six data collection instruments. The Individual Participant Record is completed at least once every reporting period by participants actively engaging in Regional AETC activities. This form includes Regional AETC participant demographic, workplace, and clients-served data for the participant's respective provider sites. The Regional AETC recipient completes the Training Activity Record form at the end of each Regional AETC activity that takes place during the reporting period. This form describes the activity in hours, modality, and topic(s). The PT Site Characteristics/Outcomes form collects site characteristics information for PT recipient sites only, such as clinic activities and procedures and aggregate counts of clients. PT sites provide clinical services and differ from IPE sites that support students, thus necessitating a different form. The IPE Site Characteristics/Outcomes form collects site characteristics information for IPE recipient sites only. The Participant Post-Activity Immediate Survey collects information from participants immediately after an activity, specifically, their satisfaction and potential increased knowledge due to participating in said activity. The IPE Long-Term form collects 1-year post-participation information from participant students who engaged in an IPE program to assess involvement in the field of HIV care and treatment.

A 60-day notice published in the Federal Register on July 19, 2024, 89 FR 58744-45. The 60-day FRN publication elicited 15 public comments, including feedback from eight currently funded AETC regional recipients. The public comments offered input to clarify the definitions of the terminology used on the forms; requested additions and revisions to response options and categories; provided feedback to update demographic questions; requested more review to identify which professions should be included or removed from the forms; asked for clarity on the training track and the process for selecting a track; and suggested that there be a balance of questions on both HIV treatment and prevention.

HRSA's HIV/AIDS Bureau conducted a thorough review of all the feedback provided by the public during the 60-day publication period. HRSA will incorporate much of the public feedback into the new forms, including through the addition of new proposed questions, removal of current incompatible questions, correcting spelling and grammar, providing definitions and instructions for clarity, incorporating skip logic to streamline question response options/categories, updating the form format, and the change of the form title from Interprofessional Education Site Characteristics/Outcomes Form to the Interprofessional Education Health Profession Program Characteristics/Outcomes Form. Other suggestions may be further reviewed in future OMB packages or non-substantive change memos.

Need and Proposed Use of the Information: HRSA uses the data collected when conducting RWHAP AETC programmatic assessments to determine future program needs. These data allow HRSA to identify where gaps exist in training HIV professionals as well as to measure whether training activities are meeting the goals of the National HIV/AIDS Strategy and the RWHAP statute.

Likely Respondents: RWHAP Regional AETC participants complete the Individual Participant Record at least once a reporting period. Regional AETC recipients complete a Training Activity Record for each training activity they conduct during the reporting period. All Regional AETC participants will take the Participant Post-Activity Survey immediately after any attended activity. The IPE Long-Term form will only be completed by participants who engaged in an IPE program, 1-year post-participation in the program. Finally, PT recipients will complete the PT Site Characteristics/Outcomes form at least once per reporting period, and IPE recipients will complete the IPE Site Characteristics/Outcomes form at least once per reporting period.

Burden Statement: Burden in this context means the time expended by persons to generate, maintain, retain, disclose, or provide the information requested. This includes the time needed to review instructions; to develop, acquire, install, and use technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Individual Participant Record | 59,576 | 1 | 59,576 | 0.27 | 16,085.52
Training Activity Record | 12,226 | 1 | 12,226 | 0.21 | 2,567.46
PT, Site Characteristics and Outcomes | 128 | 1 | 128 | 0.31 | 39.68
IPE, Site Characteristics and Outcomes | 86 | 1 | 86 | 0.09 | 7.74
Participant Post-Activity Immediate Survey | 59,576 | 3 | 178,728 | 0.06 | 10,723.68
IPE, Long-Term | 4,403 | 1 | 4,403 | 0.07 | 308.21
Combined Data Set | 8 | 1 | 8 | 64.00 | 512.00
Total | 136,003 |  | 255,155 |  | 30,244.29

Maria G. Button,
Director, Executive Secretariat.

[FR Doc. 2024-28803 Filed 12-6-24; 8:45 am]

BILLING CODE 4165-15-P